INTERNATIONAL TRADE COMMISSION

[Investigation No. 332-577]

Raspberries for Processing: Conditions of Competition Between U.S. and Foreign Suppliers, With a Focus on Washington State

ACTION: Notice of Investigation and Scheduling of a Public Hearing.

SUMMARY: Following receipt on April 9, 2020, of a request from the U.S. Trade Representative (USTR), under section 332(g) of the Tariff Act of 1930, the U.S. International Trade Commission (Commission) instituted Investigation No. 332-577, Raspberries for Processing: Conditions of Competition between U.S. and Foreign Suppliers, with a Focus on Washington State, for the purpose of providing a report that provides an overview of the U.S. raspberry industry in Washington state and assesses the conditions of competition between U.S. and foreign suppliers of raspberries meant for processing. The USTR requests that the Commission transmit its report no later than 14 months following receipt of this request.

DATES:

August 27, 2020: Deadline for filing requests to appear at the public hearing.

September 8, 2020: Deadline for filing prehearing briefs and statements.

September 17, 2020: Public hearing.

September 24, 2020: Deadline for filing post-hearing briefs and statements.

December 6, 2020: Deadline for filing all other written submissions.

June 9, 2021: Transmittal of Commission report to the Committee.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Jessica Pugliese (jessica.pugliese@usitc.gov) or Deputy Project Leader Mary Roop (202-708-2277 or mary.roop@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

Background

As requested by the USTR, the Commission will conduct an investigation and prepare a report that provides, to the extent practical, the following information:

(1) An overview of the U.S. raspberry industry in Washington State—including fresh raspberries for processing, frozen raspberries, and raspberry juice—as well as an overview of the industries producing fresh and processed raspberries in major producing and exporting countries. The overviews should include information on production and processing volumes and trends, planted acreage, processing capacity, supply chains, domestic consumption, and imports and exports of fresh and processed raspberries.

(2) Production, pricing, and consumption trends for fresh and processed raspberries in the United States and other major producing and exporting countries over the last five years. Pricing analysis should include the relationship between prices of domestic products and imports of fresh and processed raspberries in the U.S. market to the extent such data is available.

(3) An overview of U.S. imports of fresh and processed raspberries including information on the main country sources of supply, trade patterns, and supply chains of major suppliers to the United States, as well as an overview of country of origin labeling practices in major U.S. supplier countries.

(4) A description of foreign government policies, financial aid, and programs that directly or indirectly affect production, infrastructure, exports, and imports of fresh and processed raspberries, including product labeling and food safety regulations, producer support, and tariff and nontariff measures.

(5) A comparison of the competitive strengths and weaknesses of production and exports of fresh and processed raspberries in the United States and other major producing and exporting countries, including such factors as costs of production, industry structure, technology, product innovation, exchange rates, supply chains and distribution, pricing, marketing regimes, and government policies.

(6) A qualitative and, to the extent possible, quantitative assessment of the economic impact of imports from major producing and exporting countries on production and prices of U.S. fresh and processed raspberries.

The USTR requested that the report primarily focus on the 2015 to 2019 time period. The USTR requested that the Commission transmit its report no later than 14 months following receipt of this request. In his request letter, the USTR stated that his office intends to make the Commission's report available to the public in its entirety and asked that the Commission not include any confidential business information.

Public Hearing

A public hearing in connection with this investigation will be held at the U.S. International Trade Commission Building, 500 E Street SW, Washington, DC, beginning at 9:30 a.m. on September 17, 2020. Requests to appear at the public hearing should be filed with the Secretary no later than 5:15 p.m., August 27, 2020, in accordance with the requirements in the “Written Submissions” section below. All prehearing briefs and statements should be filed not later than 5:15 p.m., September 8, 2020, and all post-hearing briefs and statements should be filed not later than 5:15 p.m., September 24, 2020. Post-hearing briefs and statements should address matters raised at the hearing. In the event that, as of the close of business on September 8, 2020, no witnesses are scheduled to appear at the hearing, the hearing will be canceled. Any person interested in attending the hearing as an observer or nonparticipant should contact the Office of the Secretary at 202-205-2000 after September 8, 2020, for information concerning whether the hearing will be held.

Written Submissions

In lieu of or in addition to participating in the hearing, interested parties are invited to file written submissions concerning this investigation. All written submissions should be addressed to the Secretary, and should be received not later than 5:15 p.m., December 6, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802) or consult the Commission's Handbook on Filing Procedures.

Confidential Business Information

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the USTR, the Commission will not include any confidential business information in its report. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a way that would reveal the operations of the firm supplying the information.

Summaries of Written Submissions

Persons wishing to have a summary of their position included in the report should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: May 15, 2020.
Lisa Barton,
Secretary to the Commission.

[FR Doc. 2020-10893 Filed 5-19-20; 8:45 am]

BILLING CODE 7020-02-P